DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
WesternGeco, Geological & Geophysical Prospecting for Mineral Resources, SEA L 07-24 | Located in the central Gulf of Mexico south of Pascagoula, Mississippi | 7/5/2007
Shell Offshore, Inc., Geological & Geophysical Prospecting for Mineral Resources, SEA L07-26 | Located in the central Gulf of Mexico south of Venice, Louisiana | 7/6/2007
Chevron U.S.A., Inc., Structure Removal, SEA ES/SR 07-067 | Eugene Island, Block 26, Lease OCS-G 03147, located 11 miles from the nearest Louisiana shoreline | 7/10/2007
Maritech Resources, Inc., Structure Removal, SEA ES/SR 07-069 | West Cameron, Block 206, Lease OCS-G 03496, located 40 miles from the nearest Louisiana shoreline | 7/10/2007
Apache Corporation, Structure Removal, SEA ES/SR 05-159A, 07-029 | South Timbalier, Block 161, Lease OCS-G 01248, located 32 miles from the nearest Louisiana shoreline | 7/11/2007
Walter Oil & Gas Corporation, Structure Removal, SEA ES/SR RPM GA A192-Well SS001ST00BP00 | Galveston, Block A-192, Lease OCS-G 23191, located 66 miles from the nearest Louisiana shoreline | 7/12/2007
Walter Oil & Gas Corporation, Structure Removal, SEA ES/SR RPM ST 239-Well SS002ST00BP00 | South Timbalier, Block 239, Lease OCS-G 22754, located 51 miles from the nearest Louisiana shoreline | 7/12/2007
BP Exploration & Production, Inc., Structure Removal, SEA ES/SR 91-003A | West Cameron, Block 110, Lease OCS-G 00081, located 18 miles from the nearest Louisiana shoreline | 7/12/2007
Taylor Energy, LLC, Structure Removal, SEA ES/SR 07-071 | South Marsh Island, Block 16, Lease OCS-G 01184, located 44 miles from the nearest Louisiana shoreline | 7/18/2007
LLOG Exploration Offshore, Inc., Structure Removal, SEA ES/SR 07-075 | South Timbalier, Block 187, Lease OCS-G 21120, located 44 miles from the nearest Louisiana shoreline | 7/18/2007
Maritech Resources, Inc., Structure Removal, SEA ES/SR 07-073 | Chandeleur, Block 25, Lease OCS-G 04494, located 35 miles from the nearest Louisiana shoreline | 7/24/2007
ATP Oil & Gas Corporation, Structure Removal, SEA ES/SR 07-078 | East Cameron, Block 240, Lease OCS-G 15145, located 72 miles from the nearest Louisiana shoreline | 7/24/2007
Chevron U.S.A., Inc., Structure Removal, SEA ES/SR 07-059B | Mobile, Block 916, Lease OCS-G 05753, located 7 miles from the nearest Alabama shoreline | 7/24/2007
Stone Energy Corporation, Structure Shoreline Removal, SEA ES/SR 07-077 | Ship Shoal, Block 103, Lease OCS-G 18007, located 25 miles from the nearest Louisiana shoreline | 7/24/2007
Stone Energy Corporation, Structure Removal, SEA ES/SR 07-076 | South Pelto, Block 23, Lease OCS-G 012388, located 33 miles from the nearest Louisiana shoreline | 7/24/2007
Petsec Energy, Inc., Structure Removal, SEA ES/SR 07-072 | Mobile, Block 955, Lease OCS-G 05757, located 9 miles from the nearest Mississippi shoreline | 7/26/2007
Apache Corporation, Structure Removal, SEA ES/SR 06-153, 06-154 | Ship Shoal, Block 190, Lease OCS-G 10775, located 34 miles from the nearest Louisiana shoreline | 7/26/2007
Maritech Resources, Inc., Structure Removal, SEA ES/SR 07-074 | South Marsh Island, Block 233, Lease OCS-G 11929, located 17 miles from the nearest Louisiana shoreline | 7/26/2007
GOM Shelf, LLC, Structure Removal, SEA ES/SR 05-156A | Main Pass, Block 312, Lease OCS-G 16520, located 15 miles from the nearest Louisiana shoreline | 7/27/2007
Murphy Exploration & Production Company, U.S.A., Structure Removal, SEA ES/SR 07-079 | Vermilion, Block 335, Lease OCS-G 14418, located 89 miles from the nearest Louisiana shoreline | 7/27/2007
Apache Corporation, Structure Removal, SEA ES/SR 07-0689 | Main Pass, Block 151, Lease OCS-G 02951, located 10 miles from the nearest Louisiana shoreline | 7/31/2007
Apache Corporation, Structure Removal, SEA ES/SR 07-005A | Eugene Island, Block 196, Lease OCS-G 00802, located 48 miles from the nearest Louisiana shoreline | 8/2/2007
Chevron U.S.A., Inc., Structure Removal, SEA ES/SR 07-039A | Eugene Island, Block 231, Lease OCS-G 00980, located 39 miles from the nearest Louisiana shoreline | 8/2/2007
Energy Resource Technology, Structure Removal, SEA ES/SR RPM VR 328, Well API 177064065300 | Vermilion, Block 328, Lease OCS-G 11896, located 93 miles from the nearest Louisiana shoreline | 8/2/2007
SPN Resources Company, Structure Removal, SEA ES/SR 07-084 | Eugene Island, Block 100, Lease OCS-G 00796, located 19 miles from the nearest Louisiana shoreline | 8/6/2007
Devon Louisiana Corporation, Structure Removal, SEA ES/SR 07-080, 081 & 082 | Eugene Island, Block 51, Lease OCS-G 00078, located 20 miles from the nearest Louisiana shoreline | 8/7/2007
Chevron Environmental Management Company, Structure Removal, SEA ES/SR 07-028A | Ship Shoal, Block 108, Lease OCS-G 00814, located 23 miles from the nearest Louisiana shoreline | 8/9/2007
Chevron U.S.A., Inc., Structure Removal, SEA ES/SR 07-085 | South Marsh Island, Block 236, Lease OCS-G 00310, located 10 miles from the nearest Louisiana shoreline | 8/9/2007
Chevron U.S.A., Inc., Structure Removal, SEA ES/SR 05-082A | South Marsh Island, Block 241, Lease OCS 00310, located 12 miles from the nearest Louisiana shoreline | 8/9/2007
Apache Corporation, Revised Permit to Modify, SEA ES/SR ST161 RPMs-D | South Timbalier, Block 161, Lease OCS-G 01248, located 33 miles from the nearest Louisiana shoreline | 8/13/2007
Nippon Oil Exploration U.S.A. Limited, Structure Removal, SEA ES/SR 04-028A | High Island, Block 140, Lease OCS-G 00518, located 20 miles from the nearest Louisiana shoreline | 8/14/2007
Maritech Resources, Inc., Structure Removal, SEA ES/SR 06-164 | West Cameron, Block 524, Lease OCS-G 23674, located 93 miles from the nearest Louisiana shoreline | 8/14/2007
St. Mary Energy Company, Structure Removal, SEA ES/SR 07-088 | Vermilion, Block 273, Lease OCS-G 14412, located 96 miles from the nearest Louisiana shoreline | 8/16/2007
Newfield Exploration Company, Structure Removal, SEA ES/SR 07-035B | West Cameron, Block 146, Lease OCS-G 01996, located 25 miles from the nearest Louisiana shoreline | 8/21/2007
BT Operating, Inc., Structure Removal, SEA ES/SR 07-087 | Eugene Island, Block 294, Lease OCS-G 03569, located 73 miles from the nearest Louisiana shoreline | 8/24/2007
CGG Veritas, Geological & Geophysical Prospecting for Mineral Resources, SEA T07-12 | Located in the western Gulf of Mexico south of Galveston, Texas | 8/24/2007
Chevron U.S.A., Inc., Structure Removal, SEA ES/SR 07-070 | Eugene Island, Block 313, Lease OCS-G 02608, located 71 miles from the nearest Louisiana shoreline | 8/30/2007
Energy Partners, LTD., Structure Removal, SEA ES/SR 07-090, 091 | High Island, Block 72, Lease OCS-G 22231, located 18 miles from the nearest Texas shoreline | 8/30/2007
Energy Partners, LTD., Structure Removal, SEA ES/SR 07-092 | High Island, Block A327, Lease OCS-G 02418, located 109 miles from the nearest Texas shoreline | 9/5/2007
Maritech Resources, Inc., Structure Removal, SEA ES/SR 07-095 | Viosca Knoll, Block 213, Lease OCS-G 21720, located 28 miles from the nearest Alabama shoreline | 9/5/2007
Energy Partners, Ltd., Structure Removal, SEA 07-093 | West Cameron, Block 427, Lease OCS-G 02846, located 67 miles from the nearest Louisiana shoreline | 9/6/2007
ExxonMobil Production Company, Structure Removal, SEA 07-094 | West Delta, Block 99, Lease OCS-G 01096, located 22 miles from the nearest Louisiana shoreline | 9/7/2007
Apache Corporation, Structure Removal, SEA ES/SR 06-145A | East Cameron, Block 48, Lease OCS-G 00768, located 19 miles from the nearest Louisiana shoreline | 9/11/2007
Houston Exploration Company, Structure Removal, SEA ES/SR 07-100, 07-101 | South Marsh Island, Block 252, Lease OCS-G 02598, located 14 miles from the nearest Louisiana shoreline | 9/21/2007
Magnum Hunter Production, Inc., Structure Removal, SEA ES/SR 07-096 | West Cameron, Block 295, Lease OCS-G 24730, located 28 miles from the nearest Texas shoreline | 9/21/2007
Chevron U.S.A., Inc., Structure Removal, SEA ES/SR 07-097, 07-098 | West Cameron, Block 48, Lease OCS-G 01351, located 4 miles from the nearest Louisiana shoreline | 9/21/2007
Wavefield Geophysical/Fugro Geo­team, SMNG for TGS-NOPEC Geophysical Company, Geological & Geophysical Prospecting for Mineral Resources, SEA L07-051 | Located in the central Gulf of Mexico south of Venice, Louisiana | 9/27/2007
WESTERN GECO for Multi Client, LLC, Geological & Geophysical Prospecting for Mineral Resources, SEA T07-20 | Located in the western Gulf of Mexico south of Galveston, Texas | 9/27/2007
Apache Corporation, Structure Removal, SEA ES/SR 07-103 | Ship Shoal, Block 193, Lease OCS-G 13917, located 45 miles from the nearest Louisiana shoreline | 9/27/2007
TDC Energy, LLC, Structure Removal, SEA ES/SR 07-102 | West Cameron, Block 222, Lease OCS-G 03269, located 37 miles from the nearest Louisiana shoreline | 9/27/2007
Stone Energy Corporation, Structure Removal, SEA ES/SR 07-104 | Vermilion, Block 46, Lease OCS-G 00079, located 8 miles from the nearest Louisiana shoreline | 9/28/2007

Persons interested in reviewing environmental documents for the proposals listed above or obtaining information about SEAs and FONSIs prepared for activities on the Gulf of Mexico OCS are encouraged to contact MMS at the address or telephone listed in the FOR FURTHER INFORMATION CONTACT section.

Dated: October 18, 2007.
Lars Herbst,
Regional Director, Gulf of Mexico OCS Region.

[FR Doc. E7-22251 Filed 11-13-07; 8:45 am]

BILLING CODE 4310-MR-P